DEPARTMENT OF STATE

[Public Notice: 9270]

60-Day Notice of Proposed Information Collection: Application for Consular Report of Birth Abroad of a Citizen of the United States of America

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 16, 2015.

ADDRESSES:

You may submit comments by any of the following methods:

• Web: Persons with access to the Internet may comment on this notice by going to

www.Regulations.gov. You can search for the document by entering Docket Number: DOS-2015-0030 in the search field. Then click the “Comment Now” button and complete the comment form.

• Email: Shawkm@state.gov.

• Regular Mail: Send written comments to: U.S. Department of State, CA/OCS/PMO, SA-17, 10th Floor, Washington, DC 20036.

• Fax: 202-736-9111.

• Hand Delivery or Courier: U.S. Department of State, CA/OCS/PMO, 600 19th St. NW., 10th Floor, Washington, DC 20036.

You must include the DS form number (if applicable), information collection title, and the OMB control number in any correspondence.

FOR FURTHER INFORMATION CONTACT: Direct requests for additional information regarding the collection listed in this notice, including requests for copies of the proposed collection instrument and supporting documents, to Kaye Shaw, Bureau of Consular Affairs, Overseas Citizens Services (CA/OCS/PMO), U.S. Department of State, SA-17, 10th Floor, Washington, DC 20036 or at mailto:shawkm@state.gov.

SUPPLEMENTARY INFORMATION:

• Title of Information Collection: Application for Consular Report of Birth Abroad of a Citizen of the United States of America.

• OMB Control Number: 1405-0011.

• Type of Request: Extension.

• Originating Office: Bureau of Consular Affairs, Overseas Citizens Services (CA/OCS).

• Form Number: DS-2029.

• Respondents: Parents or legal guardians of United States citizen children born overseas.

• Estimated Number of Respondents: 71,275.

• Estimated Number of Responses: 71,275.

• Average Time per Response: 20 minutes.

• Total Estimated Burden Time: 23,758 hours.

• Frequency: On Occasion.

• Obligation To Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the requests for information to be collected.

• Minimize the reporting burden on those who are to respond, including the use of automated collection techniques or other forms of information technology.

Please note that comments submitted in response to this Notice are public record. Before including any detailed personal information, you should be aware that your comments as submitted, including your personal information, will be available for public review.

Abstract of proposed collection: The DS-2029, Application for Consular Report of Birth Abroad of a Citizen of the United States of America, is used by citizens of the United States to report the birth of a child while overseas. The information collected on this form will be used to certify the acquisition of U.S. citizenship at birth of a person born abroad. 22 U.S.C. 2705 and 22 CFR 50.5-50.7 provide authority for the Department to use this form.

Methodology: An application for a Consular Report of Birth Abroad is normally made in the consular district in which the birth occurred. The parent respondents will complete the form and present it to a United States Consulate or Embassy, who will examine the documentation and enter the information provided into the Department of State American Citizen Services (ACS) electronic database.

Dated: August 28, 2015.
Michelle Bernier-Toth,
Managing Director, Bureau of Consular Affairs, Department of State.

[FR Doc. 2015-23263 Filed 9-15-15; 8:45 am]

BILLING CODE 4710-06-P